DEPARTMENT OF HEALTH AND HUMAN SERVICES

Centers for Disease Control and Prevention

[60 Day-14-14AOD]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Youth@Work—Talking Safety Curriculum Dissemination Project: Incentives for adoption among public school districts—New—National Institute for Occupational Safety and Health (NIOSH), Centers for Disease Control and Prevention (CDC).

Background and Brief Description

The mission of the National Institute for Occupational Safety and Health (NIOSH) is to promote safety and health at work for all people through research and prevention. Working youth have long been a priority area for NIOSH. Approximately 17.5 million workers were less than 24 years of age in 2010, representing 13% of the workforce [NIOSH 2014]. For the period 1997 through 2003, nearly 80% of high school students reported working while still in high school [BLS 2005; NIOSH 2013]. During the 10-year period 1998-2007, an estimated 7.9 million nonfatal injuries to younger workers were treated in U.S. hospital emergency departments (EDs) [CDC 2010]. The nonfatal injury rate was 5.0 ED-treated injuries per 100 full-time equivalent (FTE) workers, approximately two times higher than among workers age 25 or over [CDC 2010]. One study estimates that work-related injuries for youths up to age 19 account for an annual cost of $5 billion, or 3.9% of all workplace injury costs in the United States [Miller and Waehrer 1998].

Given the disproportionate number of workplace injuries and illnesses suffered by young workers, occupational safety education is a critical and urgent concern [Chin et al. 2010]. Although the Occupational Safety and Health (OSH) Act of 1970 regulates that employers have the primary responsibility for providing a safe and healthy workplace, future working generations should be equipped with a foundation of workplace safety and health knowledge and skills. A mastery of general occupational safety and health competencies that protect workers from injury or illness are key to any work-readiness effort and to every job. NIOSH has developed fundamental workplace safety and health competencies that apply to all workplaces [NIOSH 2013; Schulte et al. 2014]. The eight core workplace safety and health competencies are general transferable skills that can apply across all industries. They can be used with the job-specific skills that workers gain through apprenticeship and career technical or vocational training programs. These core competencies/skills can be used to improve the health and safety of individuals in other places as well, such as in homes, schools, or communities.

The purpose of this study is, therefore, to conduct key informant interviews with a limited number of assistant superintendents and/or curriculum coordinators in school districts across the country to assess their openness to incorporating workplace safety and health skills for young workers into their programs as a vital component of their curricula in both academic and vocational education programs at the middle and high school level. The information will inform NIOSH on incentives barriers for the inclusion of work place safety and health competencies as the “missing life skill” in the curricula and programs of U.S. middle schools and high schools. Providing youth with foundational workplace health and safety skills enables young workers to better protect themselves and others and to contribute to safe and healthy working conditions.

For this project, twenty-eight (28) key informant interviews will be conducted. They will consist of seven (7) respondents from each of the four (4) regions of the United States (Northeast, Midwest, West, South) as defined by the U.S. Census Bureau. In each region, a sample of districts will be selected based on jurisdictional density, as defined by the National Center for Education Statistics (NCES). The participants for this data collection will be recruited with the assistance of a contractor who has successfully performed similar tasks for NIOSH in the past. The sample size is based on recommendations related to qualitative interview methods and the research team's prior experience. The interview discussion guide will be administered verbally by phone to participants in English. Once this study is complete, results will be made available via various means including print publications and the agency internet site. The information gathered by this project will inform NIOSH of the receptivity and barriers faced by these school districts for incorporating workplace safety and health competencies for young workers as a vital component of their curricula within academic and vocational education programs at the middle and high school level. There is no cost to respondents other than their time.

The total estimated annual burden hours are 14.

Estimated Annualized Burden Hours
Type of respondent | Form name | Number of respondents | Number of responses per respondent | Average burden per response (in hours) | Total burden hours
Public School Officials | Interview discussion guide | 28 | 1 | 30/60 | 14
Total |  |  |  |  | 14

Leroy Richardson,
Chief, Information Collection Review Office, Office of Scientific Integrity, Office of the Associate Director for Science, Office of the Director, Centers for Disease Control and Prevention.

[FR Doc. 2014-16791 Filed 7-16-14; 8:45 am]

BILLING CODE 4163-18-P